DEPARTMENT OF ENERGY

Federal Energy Regulatory Commission

[Docket No. RP00-632-000]

Dominion Transmission, Inc.; Notice of Proposed Changes in FERC Gas Tariff

October 4, 2000.

Take notice that on September 29, 2000, Dominion Transmission, Inc. (DTI), tendered for filing as part of its FERC Gas Tariff, Third Revised Volume No. 1, the following tariff sheets, with an effective date of November 1, 2000:

Second Revised Sheet No. 31

Second Revised Sheet No. 32

Second Revised Sheet No. 33

Second Revised Sheet No. 34

Second Revised Sheet No. 35

DTI states that the purpose of this filing is to update DTI's effective Transportation Cost Rate Adjustment (TCRA), through the annual adjustment mechanism described in Section 15 of the General Terms and Conditions of DTI's Tariff (GT&C). DTI's surcharge incorporates the balance of its Unrecovered Fuel Cost Reimbursement Subaccount, as set forth in GT&C Section 16.5, as well as the balance in its Unrecovered EPC Reimbursement Subaccount, pursuant to GT&C Section 17.5.

DTI states that copies of its letter of transmittal and enclosures are being served upon its customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-26051 Filed 10-10-00; 8:45 am]

BILLING CODE 6717-01-M